DEPARTMENT OF HEALTH AND HUMAN SERVICES

Health Resources and Services Administration

Agency Information Collection Activities: Submission to OMB for Review and Approval; Public Comment Request; Information Collection Request Title: National Practitioner Data Bank for Adverse Information on Physicians and Other Health Care Practitioners—OMB No. 0915-0126—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than February 20, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer, at paperwork@hrsa.gov or call (301) 443-1984.

SUPPLEMENTARY INFORMATION: When submitting comments or requesting information, please include the information request collection title for reference, in compliance with Section 3506(c)(2)(A) of the Paperwork Reduction Act of 1995.

Information Collection Request Title: National Practitioner Data Bank for Adverse Information on Physicians and Other Health Care Practitioners—45 CFR part 60 Regulations and Forms, OMB No. 0915-0126—Revision.

Abstract: This is a request for a revision of OMB approval of the information collection contained in regulations found at 45 CFR part 60 governing the National Practitioner Data Bank (NPDB) and the forms to be used in registering with, reporting information to, and requesting information from the NPDB. Administrative forms are also included to aid in monitoring compliance with Federal reporting and querying requirements. Responsibility for NPDB implementation and operation resides in HRSA's Bureau of Health Workforce.

The intent of the NPDB is to improve the quality of health care by encouraging hospitals, State licensing boards, professional societies, and other entities providing health care services to identify and discipline those who engage in unprofessional behavior, and to restrict the ability of incompetent health care practitioners, providers, or suppliers to move from State to State without disclosure of previous damaging or incompetent performance. It also serves as a fraud and abuse clearinghouse for the reporting and disclosing of certain final adverse actions (excluding settlements in which no findings of liability have been made) taken against health care practitioners, providers, or suppliers by health plans, Federal agencies, and State agencies.

The reporting forms, request for information forms (query forms), and administrative forms (used to monitor compliance) are accessed, completed, and submitted to the NPDB electronically through the NPDB website at https://www.npdb.hrsa.gov/. All reporting and querying is performed through the secure portal of this website. This revision proposes changes to eliminate redundant and unnecessary forms, improve user error recovery, and improve overall data integrity. There is no change to the average burden per response. The total estimated number of respondents has increased from 5 million in 2015 to over 6 million in 2017, primarily attributable to increases in use of the “One-Time Query for an Individual” and “Continuous Query” forms. The increase in total respondents resulted in an estimated increase of approximately 47,000 total burden hours.

Need and Proposed Use of the Information: The NPDB acts primarily as a flagging system; its principal purpose is to facilitate comprehensive review of practitioners' professional credentials and background. Information is collected from, and disseminated to, eligible entities (entities that are entitled to query and/or report to the NPDB as authorized in Title 45 CFR part 60) on the following: (1) Medical malpractice payments, (2) licensure actions taken by Boards of Medical Examiners, (3) State licensure and certification actions, (4) Federal licensure and certification actions, (5) negative actions or findings taken by peer review organizations or private accreditation entities, (6) adverse actions taken against clinical privileges, (7) Federal or State criminal convictions related to the delivery of a health care item or service, (8) civil judgments related to the delivery of a health care item or service, (9) exclusions from participation in Federal or State health care programs, and (10) other adjudicated actions or decisions. It is intended that NPDB information should be considered with other relevant information in evaluating credentials of health care practitioners, providers, and suppliers.

Likely Respondents: Eligible entities or individuals that are entitled to query and/or report to the NPDB as authorized in regulations found at 45 CFR part 60.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Regulation citation | Form name | Number of respondents | Responses per respondent | Total responses | Average burden per response (in hours) | Total burden hours
§ 60.6: Reporting errors, omissions, revisions or whether an action is on appeal | Correction, Revision to Action, Correction of Revision to Action, Void, Notice of Appeal (manual) | 11,114 | 1 | 11,114 | .25 | 2,779
| Correction, Revision to Action, Correction of Revision to Action, Void, Notice of Appeal (automated) | 17,966 | 1 | 17,966 | .0003 | 6
§ 60.7: Reporting medical malpractice payments | Medical Malpractice Payment (manual) | 11,993 | 1 | 11,993 | .75 | 8,995
| Medical Malpractice Payment (automated) | 242 | 1 | 242 | .0003 | 1
§ 60.8: Reporting licensure actions taken by Boards of Medical Examiners & § 60.9: Reporting licensure and certification actions taken by States. | State Licensure (manual) State Licensure (automated) | 19,160 25,980 | 1 1 | 19,160 25,980 | .75 .0003 | 14,370 8
§ 60.10: Reporting Federal licensure and certification actions | DEA/Federal Licensure | 698 | 1 | 698 | .75 | 524
§ 60.11: Reporting negative actions or findings taken by peer review organizations or private accreditation entities | Peer Review Organization Accreditation | 10 10 | 1 1 | 10 10 | .75 .75 | 8 8
§ 60.12: Reporting adverse actions taken against clinical privileges | Title IV Clinical Privileges Actions Professional Society | 698 49 | 1 1 | 698 49 | .75 | 524 37
§ 60.13: Reporting Federal or State criminal convictions related to the delivery of a health care item or service | Criminal Conviction (Guilty Plea or Trial) (manual) Criminal Conviction (Guilty Plea or Trial) (automated) Deferred Conviction or Pre-Trial Diversion | 1,140 688 54 | 1 1 1 | 1,140 688 54 | .75 .0003 .75 | 855 1 41
| Nolo Contendere (No Contest) Plea | 85 | 1 | 85 | .75 | 64
| Injunction | 10 | 1 | 10 | .75 | 8
§ 60.14: Reporting civil judgments related to the delivery of a health care item or service | Civil Judgment | 10 | 1 | 10 | .75 | 8
§ 60.15: Reporting exclusions from participation in Federal or State health care programs | Exclusion/Debarment (manual) Exclusion/Debarment (automated) | 1,624 3,180 | 1 1 | 1,624 3,180 | .75 .0003 | 1,218 1
§ 60.16: Reporting other adjudicated actions or decisions | Government Administrative Health Plan Action | 2,062 335 | 1 1 | 2,062 335 | .75 .75 | 1,547 252
§ 60.18 Requesting Information from the NPDB | One-Time Query for an Individual (manual) | 2,054,381 | 1 | 2,054,381 | .08 | 164,351
| One-Time Query for an Individual (automated) | 2,813,341 | 1 | 2,813,341 | .0003 | 844
| One-Time Query for an Organization (manual) | 39,695 | 1 | 39,695 | .08 | 3,176
| One-Time Query for an Organization (automated) | 10,201 | 1 | 10,201 | .0003 | 4
| Self-Query on an Individual | 131,481 | 1 | 131,481 | .42 | 55,223
| Self-Query on an Organization | 1,545 | 1 | 1,545 | .42 | 649
| Continuous Query (manual) | 643,860 | 1 | 643,860 | .08 | 51,509
| Continuous Query (automated) | 226,838 | 1 | 226,838 | .0003 | 69
§ 60.21: How to dispute the accuracy of NPDB information | Subject Statement and Dispute Request for Dispute Resolution | 3,547 99 | 1 1 | 3,547 99 | .75 8 | 2,661 792
Administrative | Entity Registration (Initial) | 1,073 | 1 | 1,073 | 1 | 1,073
| Entity Registration (Renewal & Update) | 14,060 | 1 | 14,060 | .25 | 3,515
| Entity Profile | 9,000 | 1 | 9,000 | .25 | 2,250
| Licensing Board Data Request | 146 | 1 | 146 | 10.5 | 1,533
| Licensing Board Attestation | 301 | 1 | 301 | 1 | 301
| Corrective Action Plan | 10 | 1 | 10 | .08 | 1
| Reconciling Missing Actions | 7,981 | 1 | 7,981 | 0.8 | 6,385
| Agent Registration (Initial) | 85 | 1 | 85 | 1 | 85
| Agent Registration (Renewal) | 278 | 1 | 278 | .08 | 23
| Electronic Transfer of Funds (EFT) Authorization | 654 | 1 | 654 | .08 | 53
| Authorized Agent Designation | 213 | 1 | 213 | .25 | 54
| Account Discrepancy | 10 | 1 | 10 | .25 | 3
| New Administrator Request | 3,016 | 1 | 3,016 | .08 | 242
| Query Credit Purchase | 789 | 1 | 789 | .08 | 64
| Educational Request | 10 | 1 | 10 | .08 | 1
| Account Balance Transfer | 10 | 1 | 10 | .08 | 1
| Missing Report Form | 29 | 1 | 29 | .08 | 3
Total |  | 6,059,761 |  | 6,059,761 |  | 326,120

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2018-00825 Filed 1-18-18; 8:45 am]

BILLING CODE 4165-15-P